INTERNATIONAL TRADE COMMISSION

[Investigation No. 731-TA-44 (Third Review)]

Sorbitol From France

AGENCY: United States International Trade Commission.

ACTION: Revised schedule for the subject review.

DATES: Effective Date: Date of Commission approval.

FOR FURTHER INFORMATION CONTACT: Dana Lofgren (202-708-4721), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On December 10, 2009, the Commission established a schedule for the conduct of the review (74 FR 66992, December 17, 2009). Due to a scheduling conflict the Commission is issuing a revised schedule. The Commission's new schedule for the review is as follows:

Staff report.—The prehearing staff report in the review will be placed in the nonpublic record on April 21, 2010, and a public version will be issued thereafter, pursuant to section 207.64 of the Commission's rules.

Hearing.—The Commission will hold a hearing in connection with the review beginning at 9:30 a.m. on May 11, 2010, at the U.S. International Trade Commission Building. Requests to appear at the hearing should be filed in writing with the Secretary to the Commission on or before May 5, 2010. All parties and nonparties desiring to appear at the hearing and make oral presentations should attend a prehearing conference to be held at 9:30 a.m. on May 7, 2010, at the U.S. International Trade Commission Building.

Written submissions.—Each party to the review may submit a prehearing brief to the Commission. Prehearing briefs must conform with the provisions of section 207.65 of the Commission's rules; the deadline for filing is April 30, 2010. The deadline for filing posthearing briefs is May 19, 2010; witness testimony must be filed no later than three days before the hearing. In addition, any person who has not entered an appearance as a party to the review may submit a written statement of information pertinent to the subject of the review on or before May 19, 2010.

For further information concerning the review see the Commission's notice cited above and the Commission's Rules of Practice and Procedure, part 201, subparts A through E (19 CFR part 201), and part 207, subparts A and C (19 CFR part 207).

Authority: This review is being conducted under authority of title VII of the Tariff Act of 1930; this notice is published pursuant to section 207.21 of the Commission's rules.

By order of the Commission.
Issued: March 29, 2010.
William R. Bishop,
Acting Secretary to the Commission.

[FR Doc. 2010-7428 Filed 4-1-10; 8:45 am]

BILLING CODE P